ENVIRONMENTAL PROTECTION AGENCY

[ER-FRL-6651-7]

Environmental Impact Statements and Regulations; Availability of EPA Comments

Availability of EPA comments prepared May 3, 2004 Through May 7, 2004 pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 2, 2004 (69 FR 17403).

Draft EISs

ERP No. D-FHW-D40323-PA Rating EC2, U.S. 202, Section ES1 Improvements Project, To Relieve Traffic Congestion and Improve the Corridor, Funding and U.S. Army COE Section 404 Permit, Delaware and Chester Counties, PA.

Summary: EPA has environmental concerns with the proposed project regarding potential impacts to surface water, forested habitat, historic structures, and Environmental Justice areas. EPA recommends utilizing the existing loop road into the final design to further avoid and minimize impacts to aquatic resources.

ERP No. D-FHW-F40421-IN Rating EO2, US-31 Improvement from Plymouth to South Bend, Running from Southern Terminus at US-30 to Northern Terminus at US-20, Marshall and St. Joseph Counties, IN.

Summary: EPA has environmental objections regarding the proposed project based on the magnitude of wetland impacts. EPA requested that additional alternatives be analyzed.

ERP No. D-NPS-D65028-PA Rating LO, Lackawanna Heritage Valley a State and National Heritage Area, Management Action Plan, Implementation, Lackawanna, Luzerne, Wayne and Susquehanna Counties, PA.

Summary: EPA expressed lack of objections with the preferred alternative.

ERP No. D-SFW-J64009-CO Rating EC2, Rocky Flats National Wildlife Refuge Comprehensive Conservation Plan, 15-Year Guidance for Management of Refuge Operations, Habitat Restoration and Visitor Services, Implementation, Jefferson and Boulder Counties, CO.

Summary: EPA expressed concerns over potential environmental impacts to the Refuge from adjacent land uses. EPA recommended that additional information be provided regarding potential indirect impacts from the proposed development of the transportation corridor, including identification of feasible mitigation measures to offset those impacts. EPA also suggested further discussion of the DOE retained area in terms of weed dispersal and projected final contamination levels.

ERP No. DS-AFS-L39057-OR Rating EC2, Rimrock Ecosystem Restoration Projects, New Information on the Commercial and Non-commercial Thinning Treatments in the C3 Management Area, Umatilla National Forest, Heppner Ranger District, Grant, Morrow and Wheeler Counties, OR.

Summary: EPA continued to express concerns with air quality impacts from prescribed burning, the funding of restoration projects and adverse impacts from roads.

Final EISs

ERP No. F-AFS-D40322-PA Sugar Run Project Area (SRPA), To Achieve and Maintain the Desired Conditions as stated in Forest Plan, Allegheny National Forest, Bradford Ranger District, McKean County, PA.

Summary: EPA's comments are adequately addressed in the Final EIS. Therefore, EPA has no objection to the proposed action.

ERP No. F-AFS-D65027-00 Jefferson National Forest Revised Land and Resource Management Plan, Implementation, Mount Rogers National Recreation Area, Clinch, Glenwood, New Castle, and New River Valley Rangers Districts, VA, WV, and KY.

Summary: EPA expressed environmental concerns due to potential impacts from erosion/sedimentation, air emissions, and ground water contamination. EPA suggested that these issues be addressed as the plan is implemented.

ERP No. F-AFS-J65380-UT Prima East Clear Creek Federal No. 22-42 Gas Exploration Well, Application for Permit to Drill (APD) including a Surface Use Plan of Operations, Approval, Castle Valley Ridge, Ferron/Price Ranger District, Manti-La Sal National Forest, Carbon and Emery Counties, UT.

Summary: No formal comment letter was sent to the preparing agency.

ERP No. F-COE-L36115-WA Centralia Flood Damage Reduction Project, Chehalis River, Lewis and Thurston Counties, WA.

Summary: EPA expressed continuing concerns that potential impacts to the Total Maximum Daily Load (TMDL) for the upper Chehalis River were not analyzed, and continuing concerns that wetland mitigation proposed is not sufficient to compensate for impacts to wetland functions.

ERP No. F-IBR-K65259-CA Pajaro Valley Water Management Agency (PVWMA) Revised Basin Management Plan Project, Connection of PVWMA Pipeline to the Santa Clara Conduit of the Central Valley Project (CVP), Santa Cruz, Monterey and San Benito Counties, CA.

Summary: EPA continues to express concerns regarding cumulative impacts to the Pajaro Valley, San Joaquin Valley, and Central Valley Project operations from imported water projects.

ERP No. F-NPS-D65028-PA Lackawanna Heritage Valley—a State and National Heritage Area, Management Action Plan, Implementation, Lackawanna, Luzerne, Wayne and Susquehanna Counties, PA.

Summary: EPA expressed lack of objections with the preferred alternative.

Dated: May 18, 2004.
Ken Mittelholtz,
Environmental Protection Specialist, Office of Federal Activities.

[FR Doc. 04-11563 Filed 5-20-04; 8:45 am]

BILLING CODE 6560-50-P